DEPARTMENT OF AGRICULTURE

Animal and Plant Health Inspection Service

[Docket No. 04-043-1]

National Poultry Improvement Plan; General Conference Committee Meeting and Biennial Conference

AGENCY: Animal and Plant Health Inspection Service, USDA.

ACTION: Notice of meeting.

SUMMARY: We are giving notice of a meeting of the General Conference Committee of the National Poultry Improvement Plan and of the Biennial Conference.

DATES: The General Conference Committee will meet on July 8, 2004, from 8 a.m. to 2 p.m. The Biennial Conference will meet on July 9, 2004, from 8 a.m. to 5 p.m. and on July 10, 2004, from 8 a.m. to noon.

ADDRESSES: The meeting will be held at the Sir Francis Drake Hotel, 450 Powell Street, San Francisco, CA.

FOR FURTHER INFORMATION CONTACT: Mr. Andrew R. Rhorer, Senior Coordinator, National Poultry Improvement Plan, VS, APHIS, 1498 Klondike Road, Suite 101, Conyers, GA 30094-1231; (770) 922-3496.

SUPPLEMENTARY INFORMATION: The General Conference Committee (the Committee) of the National Poultry Improvement Plan (NPIP), representing cooperating State agencies and poultry industry members, serves an essential function by acting as liaison between the poultry industry and the Department in matters pertaining to poultry health. In addition, this Committee assists the Department in planning, organizing, and conducting the NPIP Biennial Conference.

Topics for discussion at the upcoming meetings include:

1. Establishment of an active surveillance program for H5/H7 low pathogenic avian influenza (LPAI) for the commercial poultry and egg industry;

2. Establishment of a passive diagnostic surveillance program for H5/H7 LPAI for the commercial poultry and egg industry;

3. Establishment of a shared indemnity program for commercial layers and layer breeders, broilers and broiler breeders, and turkey and turkey breeders participating in the H5/H7 LPAI program; and

4. Establishment of a definition for an approved test of the NPIP.

The meetings will be open to the public. The sessions held on July 9 and July 10, 2004, will include delegates to the NPIP Biennial Conference, representing State officials and poultry industry personnel from the 48 cooperating States. However, due to time constraints, the public will not be allowed to participate in the discussions during either of the meetings. Written statements on meeting topics may be filed with the Committee before or after the meetings by sending them to the person listed under FOR FURTHER INFORMATION CONTACT. Written statements may also be filed at the meetings. Please refer to Docket No. 04-043-1 when submitting your statements.

This notice of meeting is given pursuant to section 10 of the Federal Advisory Committee Act.

Done in Washington, DC, this 24th day of May, 2004.
Kevin Shea,
Acting Administrator, Animal and Plant Health Inspection Service.

[FR Doc. 04-12136 Filed 5-27-04; 8:45 am]

BILLING CODE 3410-34-P